FEDERAL TRADE COMMISSION

Notice Concerning Telemarketing Sales Rule

AGENCY: Federal Trade Commission.

ACTION: Notice.

SUMMARY: In this document, the Federal Trade Commission (“FTC” or “Commission”) announces that in response to petitions from the Direct Marketing Association (“DMA”) and the American Teleservices Association (“ATA”), the Commission has decided to extend the date by which it will require full compliance with § 310.4(b)(4)(iii) of the Amended Telemarketing Sales Rule (“TSR”) until October 1, 2003.

DATES: The Commission will require full compliance with § 310.4(b)(4)(iii) on October 1, 2003.

ADDRESSES: Requests for copies of the Amended Rule and this notice should be sent to Public Reference Branch, Room 130, Federal Trade Commission, 600 Pennsylvania Avenue, NW., Washington, DC 20580.

FOR FURTHER INFORMATION CONTACT: Catherine Harrington-McBride, (202) 326-2452, Karen Leonard, (202) 326-3597, Michael Goodman, (202) 326-3071, or Carole Danielson, (202) 326-3115, Division of Marketing Practices, Bureau of Consumer Protection, Federal Trade Commission, 600 Pennsylvania Ave., NW., Washington, DC 20580.

SUPPLEMENTARY INFORMATION: On January 29, 2003, the Federal Trade Commission published the Amended Telemarketing Sales Rule (“TSR”), 16 CFR part 310, and its Statement of Basis and Purpose in the Federal Register.¹ The notice stated that the Amended Rule would become effective March 31, 2003; that full compliance with § 310.4(a)(7), the caller identification transmission provision, would be required by January 29, 2004; and that the Commission would announce at a future time the date by which full compliance with § 310.4(b)(1)(iii)(B), the “do-not-call” registry provision, would be required.

¹ 68 FR 4580 (Jan. 29, 2003).

By letter dated February 27, 2003, the Direct Marketing Association (“DMA”) petitioned the Commission either to “forebear from enforcing the requirements of § 310.4(b)(1)(iv) * * * and § 310.4(a)(6)(i) of the Telemarketing Sales Rule (TSR) or in the alternative, stay the effectiveness of these sections of the rule * * *.” These are the provisions that, respectively, prohibit telemarketers from abandoning calls, and require taping of the entire telemarketing call in any transaction combining the use of preacquired account information and a free-to-pay conversion offer.

Also on February 27, 2003, the American Teleservices Association (“ATA”) petitioned the Commission to stay the effective date of the Amended TSR pending resolution of lawsuits initiated by ATA and DMA that challenge the validity of certain provisions of the Amended Rule.² ATA seeks, in the alternative, postponement of the March 31, 2003, effective date of the Amended TSR until the FCC has finished its review of its regulations under the Telephone Consumer Protection Act (“TCPA”), 47 U.S.C. 227.

² ATA v. FTC, No. 03-N-0184(MJW)(D. Col. filed Jan. 29, 2003); DMA v. FTC, No. CIV 03-122-W (W.D. Okla. filed Jan. 29, 2003).

Based on information submitted by the petitions together with information obtained from other sources, the Commission has determined that full compliance with the recording requirement of the call abandonment safe harbor provision (§ 310.4(b)(4)(iii)) by March 31, 2003, many constitute an undue burden on some telemarketers and sellers, who may need to reprogram or purchase software for their equipment, or replace their current equipment. In some instances, it will be very difficult or impossible to accomplish this by the March 31, 2003, effective date. Therefore, the Commission has determined to extend the date by which it will require full compliance with § 310.4(b)(4)(iii) until October 1, 2003. The Commission also stays until October 1, 2003, the date by which it will require full compliance with the safe harbor record retention requirement, § 310.4(b)(4)(iv), to the extent it would require record keeping to document the use of a recorded message in instances of call abandonment. The additional six months should give industry ample time to make the changes in their operations necessary to comply with the recording requirement of the call abandonment safe harbor.

The requirement of full compliance with the prohibition on call abandonment (§ 310.4(b)(1)(iv)) is not stayed, and the requirement of full compliance with the other requirements of the call abandonment safe harbor provision (§§ 310.4(b)(4)(i), (ii) & (iv)) similarly is not stayed.³ The Commission determined that these provisions are necessary to remedy the abusive practice of call abandonment and the related abusive practice of disconnecting the call after only one or two rings, before the consumer can reach the telephone to answer it.⁴ Nothing the petitioners have submitted demonstrates that telemarketers would be unable to comply with these call abandonment provisions.

³ The requirement of full compliance with Section 310.4(b)(4)(iv) is not stayed to the extent that it requires record keeping to document compliance with §§ 310.4(b)(4)(i) or (ii).

⁴ See the Commission's discussion of these practices and the TSR provisions adopted to remedy them at 68 FR at 4641 (Jan. 29, 2003).

As the Statement of Basis and Purpose indicates, in the future the Commission will announce the date by which full compliance with the national “do-not-call” registry provisions of the amended Rule will be required. Full compliance with all other provisions of the amended Rule—with the exception of the Caller ID provision (§ 310.4(a)(7))—will be required by the date on which the amended Rule is effective, March 31, 2003. Full compliance with the Caller ID provisions will be required by January 29, 2004.

By direction of the Commission.
Donald S. Clark,
Secretary.

[FR Doc. 03-7249 Filed 3-25-03; 8:45 am]

BILLING CODE 6750-01-M